DEPARTMENT OF TRANSPORTATION

Federal Railroad Administration

Petition for Waiver of Compliance

In accordance with Part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

Santa Clara Valley Transportation Authority

(Modification to Waiver Petition Docket Number FRA-1999-6254)

As a modification to Santa Clara Valley Transportation Authority's (VTA) existing Vasona Corridor Light Rail (Vasona Line) Shared Use/Temporal Separation waiver originally granted by FRA on September 26, 2005, VTA requests FRA to modify the original terms and conditions of its permanent waiver of compliance from sections of Title 49 of the CFR. This request is made due to changes that have recently occurred along the Vasona Line, a light rail line that features “limited connections” such as a shared corridor operation and an at-grade diamond rail crossover of the VTA light rail track by a Union Pacific Railroad Company (UPRR) freight spur within this shared corridor. See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).

On December 11, 2007, the spur and siding at Milepost (MP) 3.82 that served a wholesale flooring company were abandoned and removed by UPRR, which operates a freight railroad in this corridor but on separate track from the light rail system. This action rendered obsolete the Lincoln/UPRR diamond crossover which allowed UPRR trains the ability to cross the VTA light rail tracks to gain entry into the spur and service the flooring business. With the removal of the spur and siding, the trackage, switch, and diamond, as well as signal equipment at the diamond, are no longer needed and can be removed from service. With the exception of eliminating freight car movements across the light rail tracks, there will be no other changes to VTA light rail operations or UPRR freight rail operations at this location or elsewhere along the Vasona Corridor.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-1999-6254) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on May 29, 2008.
Grady C. Cothen, Jr.,
Deputy Associate Administrator for Safety Standards and Program Development.

[FR Doc. E8-12405 Filed 6-3-08; 8:45 am]

BILLING CODE 4910-06-P